DEPARTMENT OF TRANSPORTATION

Federal Motor Carrier Safety Administration

[Docket No. FMCSA-2008-0362]

Medical Review Board (MRB); Notice of Partially Closed Meeting

AGENCY: Federal Motor Carrier Safety Administration (FMCSA), Department of Transportation (DOT).

ACTION: Notice of partially closed meeting.

SUMMARY: This notice announces a meeting of the Medical Review Board (MRB).

DATES: The meeting will be held on Wednesday, October 19, 2022, from 9:30 a.m. to 4:30 p.m. ET. The meeting will be closed to the public from 9:30 a.m. to 12 p.m. and open to the public from 1 to 4:30 p.m. Requests for accommodations for a disability must be received by Wednesday, October 12, 2022. Requests to submit written materials for consideration during the meeting must be received no later than Wednesday, October 12, 2022.

ADDRESSES: The meeting will be held virtually for its entirety. Please register in advance of the meeting at www.fmcsa.dot.gov/mrb. Copies of the MRB task statement relating to review of medical examiner certification test questions and an agenda for the entire meeting will be made available at www.fmcsa.dot.gov/mrb at least 1 week in advance of the meeting. Copies of the meeting minutes will be available at the website following the meeting. You may visit the MRB website at www.fmcsa.dot.gov/mrb for further information on the committee and its activities.

FOR FURTHER INFORMATION CONTACT: Ms. Shannon L. Watson, Senior Advisor to the Associate Administrator for Policy, FMCSA, 1200 New Jersey Avenue SE, Washington, DC 20590, (202) 360-2925, mrb@dot.gov. Any committee-related request should be sent to the person listed in this section.

SUPPLEMENTARY INFORMATION:

I. Background

MRB was created under the Federal Advisory Committee Act (FACA) in accordance with section 4116 of the Safe, Accountable, Flexible, Efficient Transportation Equity Act: A Legacy for Users ¹ to provide FMCSA “with medical advice and recommendations on medical standards and guidelines for the physical qualifications of operators of commercial motor vehicles, medical examiner education, and medical research” (49 U.S.C. 31149(a)(1)). MRB operates in accordance with FACA under the terms of the MRB charter, filed November 25, 2021.

¹ Public Law 109-59, 119 Stat. 1144, 1726 (2005).

II. Agenda

The agenda will cover the following topics:

• Wednesday, October 19, 9:30 a.m. to 12 p.m. (Closed Session): Review of test questions to be used to determine eligibility of healthcare professionals to be certified as medical examiners and be listed on the National Registry of Certified Medical Examiners.

• Wednesday, October 19, 1 to 4:30 p.m. (Public Session):

1. An update by FMCSA's Office of Research on examining the seizure standard for CMV drivers.

2. An update by FMCSA's Office of Research on the effect of the length of medical certification on safety.

III. Public Participation

The morning of the meeting will be closed to the public due to the discussion of specific test questions to be used to certify medical examiners, which are not available for release to the public. Premature disclosure of secure test information would compromise the integrity of the examination and therefore exemption 9(B) of section 552b(c) of Title 5 of the United States Code justifies closing this portion of the meeting pursuant to 41 CFR 102-3.155(a). The afternoon of the meeting will be open to the public via virtual platform. Advance registration via the website is encouraged.

DOT is committed to providing equal access to this meeting for all participants. If you need alternative formats or services due to a disability, such as sign language interpretation or other ancillary aids, please contact the person listed in the FOR FURTHER INFORMATION CONTACT section by Wednesday, October 12, 2022.

Oral comments from the public will be heard during designated comment periods at the discretion of the MRB Chairman and Designated Federal Officer. To accommodate as many speakers as possible, the time for each commenter may be limited. Speakers are requested to submit a written copy of their remarks for inclusion in the meeting records and for circulation to MRB members. All prepared remarks submitted on time will be accepted and considered as part of the record. Any member of the public may present a written statement to the committee at any time.

Larry W. Minor,
Associate Administrator for Policy.

[FR Doc. 2022-21564 Filed 10-4-22; 8:45 am]

BILLING CODE 4910-EX-P